DEPARTMENT OF COMMERCE

National Oceanic and Atmospheric Administration

50 CFR Part 648

[Docket No. 120813331-2562-01]

RIN 0648-XC164

Magnuson-Stevens Act Provisions; Fisheries of the Northeastern United States; Northeast Multispecies Fishery; Proposed Rule To Implement a Targeted Acadian Redfish Fishery for Sector Vessels; Reopening of Comment Period

AGENCY: National Marine Fisheries Service (NMFS), National Oceanic and Atmospheric Administration (NOAA), Commerce.

ACTION: Proposed rule; reopening of comment period.

SUMMARY: This action reopens the comment period for an Acadian redfish proposed rule that published on November 8, 2012. The original comment period closed on November 23, 2012; the comment period is being reopened to provide additional opportunity for public comment through December 31, 2012.

DATES: The comment period for the proposed rule published November 8, 2012 (77 FR 66947), is reopened. Written comments must be received on or before December 31, 2012.

ADDRESSES: You may submit comments, identified by NOAA-NMFS-2011-0264, by any one of the following methods:

• Electronic Submissions: Submit all electronic public comments via the Federal eRulemaking Portal: http://www.regulations.gov.

• Fax: (978) 281-9135, Attn: Brett Alger.

• Mail: Paper, disk, or CD-ROM comments should be sent to John K. Bullard, Regional Administrator, National Marine Fisheries Service, 55 Great Republic Drive, Gloucester, MA 01930. Mark the outside of the envelope: “Comments on Redfish Rule.”

Instructions: All comments received are part of the public record and will generally be posted to http://www.regulations.gov without change. No comments will be posted for public viewing until after the comment period has closed. All Personal Identifying Information (for example, name, address, etc.) voluntarily submitted by the commenter may be publicly accessible. Do not submit Confidential Business Information or otherwise sensitive or protected information. NMFS will accept anonymous comments (enter N/A in the required fields, if you wish to remain anonymous). You may submit attachments to electronic comments in Microsoft Word, Excel, WordPerfect, or Adobe PDF file formats only.

Once submitted to NMFS, copies of addenda to fishing year (FY) 2012 sector operations plans detailing industry-funded monitoring plans, and the supplemental environmental assessment (EA), will be available from the NMFS NE Regional Office at the mailing address above.

FOR FURTHER INFORMATION CONTACT: Brett Alger, Fisheries Management Specialist, phone (978) 675-2153, fax (978) 281-9135.

SUPPLEMENTARY INFORMATION: A proposed rule published on November 8, 2012 (77 FR 66947) that would implement addenda to FY 2012 NE multispecies sector operations plans and contracts to add additional exemptions from Federal fishing regulations for FY 2012 sectors. Specifically, the action would expand on a previously approved sector exemption by allowing groundfish sector trawl vessels to target redfish using nets with codend mesh as small as 4.5 inches (11.4 cm). In addition, the action proposed to implement an industry-funded at-sea monitoring program for sector trips targeting redfish with trawl nets with mesh sizes that are less than the regulated mesh size requirement.

The proposed rule published in the Federal Register with a 15-day comment period that closed on November 23, 2012. Public comment from the fishing industry requested that the comment period be extended to allow the New England Fishery Management Council's (Council) Groundfish Oversight Committee and the full Council to discuss the proposal and to provide comment. The Groundfish Committee will be meeting December 19, 2012, and the Council will be meeting December 20, 2012. Both of these meetings plan to discuss the sector exemption request to target redfish using a codend mesh as small as 4.5 inches (11.4 cm). Reopening the comment period to overlap with the Council's meetings will provide additional time for the Council and other interested parties to provide comment on this action. Thus, NMFS is reopening the comment period on the proposed rule through December 31, 2012.

Authority: 16 U.S.C. 1801 et seq.

Dated: November 23, 2012.
Alan D. Risenhoover,
Director, Office of Sustainable Fisheries, Performing the Functions and Duties of the Deputy Assistant Administrator for Regulatory Programs, National Marine Fisheries Service.

[FR Doc. 2012-28820 Filed 11-23-12; 4:15 pm]

BILLING CODE 3510-22-P